DEPARTMENT OF THE INTERIOR

Bureau of Ocean Energy Management

[OMB Control Number 1010-0114; Docket ID: BOEM-2017-0016]

Agency Information Collection Activities; Submission to the Office of Management and Budget for Review and Approval; Oil and Gas Production Requirements in the Outer Continental Shelf

AGENCY: Bureau of Ocean Energy Management, Interior.

ACTION: Notice of information collection; request for comment.

SUMMARY: In accordance with the Paperwork Reduction Act of 1995, the Bureau of Ocean Energy Management (BOEM) is proposing to renew an information collection request with revisions.

DATES: Interested persons are invited to submit comments on or before January 16, 2020.

ADDRESSES: Send written comments on this information collection request (ICR) to the Office of Management and Budget's Desk Officer for the Department of the Interior by email at OIRA_Submission@omb.eop.gov; or via facsimile to 202-395-5806. Please provide a copy of your comments to the BOEM Information Collection Clearance Officer, Anna Atkinson, Bureau of Ocean Energy Management, 45600 Woodland Road, Sterling, Virginia 20166; or by email to anna.atkinson@boem.gov. Please reference Office of Management and Budget (OMB) Control Number 1010-0114 in the subject line of your comments.

FOR FURTHER INFORMATION CONTACT: To request additional information about this ICR, contact Anna Atkinson by email, or by telephone at 703-787-1025. You may also view the ICR at http://www.reginfo.gov/public/do/PRAMain.

SUPPLEMENTARY INFORMATION: In accordance with the Paperwork Reduction Act of 1995, BOEM provides the general public and other Federal agencies with an opportunity to comment on new, proposed, revised, and continuing collections of information. This helps BOEM assess the impact of the information collection requirements and minimize the public's reporting burden. It also helps the public understand BOEM's information collection requirements and provide the requested data in the desired format.

A Federal Register notice with a 60-day public comment period soliciting comments on this proposed information collection request was published on September 9, 2019 (84 FR 47317). One comment was received that discussed protection of American citizens, and opposition to drilling surveys.

BOEM is again soliciting comments on the proposed ICR that is described below. BOEM is especially interested in public comment addressing the following issues: (1) Is the collection necessary to the proper functions of BOEM; (2) what can BOEM do to ensure this information will be processed and used in a timely manner; (3) is the estimate of burden accurate; (4) how might BOEM enhance the quality, utility, and clarity of the information to be collected; and (5) how might BOEM minimize the burden of this collection on the respondents, including minimizing the burden through the use of information technology?

Comments that you submit in response to this notice are a matter of public record. BOEM will include or summarize each comment in its request to the Office of Management and Budget (OMB) for approval of this ICR. You should be aware that your entire comment—including your address, phone number, email address, or other personal identifying information—may be made publicly available at any time. In order for BOEM to withhold from disclosure your personally identifiable information, you must identify any information contained in the submittal of your comments that, if released, would clearly constitute an unwarranted invasion of your personal privacy. You must also briefly describe any possible harmful consequences of the disclosure of your information, such as embarrassment, injury, or other harm. While you can ask BOEM in your comment to withhold your personally identifiable information from public review, BOEM cannot guarantee that it will be able to do so.

BOEM protects proprietary information in accordance with the Freedom of Information Act (5 U.S.C. 552) and the Department of the Interior's implementing regulations (43 CFR part 2), and under regulations at 30 CFR parts 550 and 552 promulgated pursuant to the Outer Continental Shelf Lands Act (OCSLA) at 43 U.S.C. 1352(c).

Abstract: This information collection request concerns the paperwork requirements in the regulations in 30 CFR part 550, subparts A and K, which deal with regulatory requirements of oil, gas, and sulfur operations on the OCS. This request also covers the related Notices to Lessees and Operators (NTL) that BOEM issues to clarify and provide guidance on some aspects of our regulations, and forms BOEM-0127, BOEM-0140, BOEM-1123, and BOEM-1832.

The Outer Continental Shelf (OCS) Lands Act, as amended (43 U.S.C. 1331 et seq. and 43 U.S.C. 1801 et seq.), authorizes the Secretary of the Interior to prescribe rules and regulations to administer leasing of the OCS. Such rules and regulations apply to all operations conducted under a lease. Operations in the OCS must preserve, protect, and develop oil and natural gas resources in a manner that is consistent with the need to make such resources expeditiously available to meet the Nation's energy needs: To balance orderly energy resources development with protection of human, marine and coastal environments; to ensure the public a fair and equitable return on the resources of the OCS; and to preserve and maintain free enterprise competition. Section 1332(6) states that “operations in the [O]uter Continental Shelf should be conducted in a safe manner by well-trained personnel using technology, precautions, and techniques sufficient to prevent or minimize the likelihood of blowouts, loss of well control . . . physical obstruction to other users of the waters or subsoil and seabed, or other occurrences which may cause damage to the environment or to property, or endanger life or health.”

BOEM uses the information collected under the regulations affected by this ICR to ensure that operations in the OCS are carried out in a safe and environmentally sound manner, do not interfere with the rights of other users on the OCS, and balance the protection and development of OCS resources.

Title of Collection: 30 CFR 550, Subpart A, General, and Subpart K, Oil and Gas Production.

OMB Control Number: 1010-0114.

Form Number:

• BOEM-0127, Sensitive Reservoir Information Report;

• BOEM-0140, Bottomhole Pressure Survey Report;

• BOEM-1123, Designation of Operator; and

• BOEM-1832, Notification of Incident(s) of Noncompliance.

Type of Review: Revision of a currently approved information collection.

Respondents/Affected Public: Oil and gas and Sulphur lessees/operators.

Total Estimated Number of Annual Responses: 5,302 responses.

Total Estimated Number of Annual Burden Hours: 18,323 hours.

Respondent's Obligation: Mandatory.

Frequency of Collection: On occasion, monthly.

Total Estimated Annual Non-hour Burden Cost: $165,492.

Estimated Reporting and Recordkeeping Hour Burden: The current annual burden hours for this collection are 30,635 hours. BOEM proposes to reduce annual burden hours to 18,323 hours, which is a decrease of 12,312 annual burden hours. The annual burden hour reduction is related to adjustments in 30 CFR 550, subpart K, which include:

• For 30 CFR 550.1153, the regions re-evaluated the annual burden hours for static bottomhole pressure surveys. The average hour burden based on industry feedback is 15 hours instead of 14 hours. Also, BOEM on average reviews approximately 400 bottomhole pressure surveys per year instead of 1,161 surveys. The 2017 OMB approved annual burden hours included 3 years of data instead of annual data. Therefore, BOEM is reducing the number of respondents to correct this error. The annual burden hours for 30 CFR 55.1153 is decreasing from 16,254 hours to 6,000 hours (−10,254 hours).

• For 30 CFR 550.1153(d), BOEM is increasing the hour burden from 1 to 5 based on industry feedback. BOEM is currently reviewing fewer departures annually than previously recorded (decreasing number of departures from 200 to 100). With the increase in hour burdens and the decrease in respondents, the overall annual burden hour for 30 CFR 550.1153(d) will increase to 500 hours (+300 hours).

• For 30 CFR 550.1154 and 550.1167, BOEM is changing the hour burden from 1 to 5 hours based on industry feedback. However, the number of respondents is dropping by 2/3rds (from 15 requests to 5 requests). Therefore, the annual burden hour change will increase slightly from 15 hours to 25 hours (+10 hours).

• For 30 CFR 550.1155, based on outreach input, BOEM is increasing the hour burden for form BOEM-0127 from 3 hours to 6 hours. However, BOEM previously overestimated the number of forms submitted. BOEM is reducing the number of forms collected from 2,012 to 610 forms; therefore, the overall annual burden hours will decrease from 6,036 hours to 3,660 hours (−2,376 hours).

• For 30 CFR 550.1153-1167, BOEM is increasing the respondents from 2 to 10 due to an increase in annual departure requests. With changes in technology, operators are installing permanent downhole gauges in wells, which show continuous readings of the downhole pressure. Operators are submitting this type of data, as alternative compliance to static bottomhole pressure surveys, to meet the bottomhole pressure requirement. BOEM has seen an increase from 2 to 10 departure requests annually. This increase in respondents causes the annual burden hours to increase from 2 to 10 hours (+8 hours).

An agency may not conduct or sponsor, and a person is not required to respond to, a collection of information unless it displays a currently valid OMB control number.

Authority: The authority for this action is the Paperwork Reduction Act of 1995 (44 U.S.C. 3501 et seq.).

Deanna Meyer-Pietruszka,
Chief, Office of Policy, Regulations, and Analysis.

[FR Doc. 2019-27079 Filed 12-16-19; 8:45 am]

BILLING CODE 4310-MR-P